FEDERAL EMERGENCY MANAGEMENT AGENCY

[FEMA-3164-EM]

Maine; Amendment No. 2 to Notice of an Emergency Declaration

AGENCY: Federal Emergency Management Agency (FEMA).

ACTION: Notice.

SUMMARY: This notice amends the notice of an emergency for the State of Maine (FEMA-3164-EM), dated March 20, 2001, and related determinations.

EFFECTIVE DATE: April 12, 2001.

FOR FURTHER INFORMATION CONTACT: Madge Dale, Response and Recovery Directorate, Federal Emergency Management Agency, Washington, DC 20472, (202) 646-3772.

SUPPLEMENTARY INFORMATION: This notice reopens the incident period for this emergency. The incident period for this emergency is now March 5-31, 2001. The notice is further amended to include the following areas among those areas determined to have been adversely affected by the catastrophe declared an emergency by the President in his declaration of March 20, 2001:

Androscoggin, Aroostook, Cumberland, Franklin, Oxford, Penobscot, Piscataquis, Somerset and Washington Counties for emergency protective measures (Category B) under the Public Assistance program for a period of 48 hours.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)

Joe M. Allbaugh,
Director.

[FR Doc. 01-9987 Filed 4-20-01; 8:45 am]

BILLING CODE 6718-02-P